DEPARTMENT OF HEALTH AND HUMAN SERVICES

National Institutes of Health

National Cancer Institute; Cancellation of Meeting

Notice is hereby given of the cancellation of the National Cancer Institute Clinical Trials and Translational Research Advisory Committee, July 11, 2012, 9:00 a.m. to July 11, 2012, 4:00 p.m., National Institutes of Health, Building 31, C-Wing, 6th Floor, 31 Center Drive, Conference Room 10, Bethesda, MD 20892 which was published in the Federal Register on January 18, 2012, 77 FR 2557.

This meeting has been cancelled.

Dated: June 5, 2012.
Jennifer S. Spaeth,
Director, Office of Federal Advisory Committee Policy.

[FR Doc. 2012-14128 Filed 6-8-12; 8:45 am]

BILLING CODE 4140-01-P